NUCLEAR REGULATORY COMMISSION

[Docket No. 50-346]

FirstEnergy Nuclear Operating Company; Davis-Besse Nuclear Power Station, Unit 1 Notice of Withdrawal of Application for Amendment to Facility Operating License

The U.S. Nuclear Regulatory Commission (the Commission) has granted the request of FirstEnergy Nuclear Operating Company (FENOC) (the licensee) to withdraw its January 25, 2000, application for proposed amendment to Facility Operating License No. NPF-3 for the Davis-Besse Nuclear Power Station, Unit No.1, located in Ottawa County, Ohio.

The proposed amendment would have revised the Once-Through Steam Generator (OTSG) tube repair roll process for use during the Twelfth Refueling Outage. At a meeting on April 6, 2000, the Babcock and Wilcox Owners Group, of which FENOC is a member, announced they are developing a Topical Report that will support eliminating certain accidents from consideration in OTSG design. This Topical Report is scheduled to be submitted to the Nuclear Regulatory Commission (NRC) in the summer of 2000 for review and approval. Since the subject license amendment request content will be affected by the Topical Report, and since the OTSG repairs for the Twelfth Refueling Outage were completed without using the repair roll process, FENOC is withdrawing the subject license amendment.

The Commission had previously issued a Notice of Consideration of Issuance of Amendment published in the Federal Register on February 23, 2000 (65 FR 9008). However, by letter dated May 9, 2000, the licensee withdrew the proposed change.

For further details with respect to this action, see the application for amendment dated January 25, 2000, and the licensee's letter dated May 9, 2000, which withdrew the application for license amendment. The above documents are available for public inspection at the Commission's Public Document Room, the Gelman Building, 2120 L Street, NW., Washington, DC, and accessible electronically through the ADAMS Public Electronic Reading Room link at the NRC Web site (http://www.nrc.gov).

Dated at Rockville, Maryland, this 14th day of July 2000.
For the Nuclear Regulatory Commission.
Stephen P. Sands,
Project Manager, Section 2, Project Directorate III, Division of Licensing Project Management, Office of Nuclear Reactor Regulation.

[FR Doc. 00-18424 Filed 7-19-00; 8:45 am]

BILLING CODE 7590-01-P